Presidential Determination No. 2004-43 of August 20, 2004

Determination to Make Available Assistance for Liberia

Memorandum for the Secretary of State[,] the Secretary of Defense[,] the Secretary of the Treasury[, and] the Administrator, United States Agency for International Development

Consistent with the authority vested in me under the Act Making Emergency Supplemental Appropriations for Defense and for the Reconstruction of Iraq and Afghanistan, 2004 (Public Law 108-106), under the heading “International Disaster and Famine Assistance,” I hereby determine that it is in the national interest and essential to efforts to reduce international terrorism to furnish $86 million in assistance for Liberia from funds made available under that heading.

The Secretary of State is authorized and directed to report this determination to the Congress and to arrange for its publication in the Federal Register.

B

THE WHITE HOUSE,

Washington, August 20, 2004.

[FR Doc. 04-19858

Filed 8-27-04; 8:45 am]

Billing code 4710-10-P